DEPARTMENT OF AGRICULTURE

Forest Service

Humboldt (NV) Resource Advisory Committee

AGENCY: Forest Service, USDA.

ACTION: Notice of meeting.

SUMMARY: The Humboldt (NV) RAC will meet in Winnemucca, NV. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The purpose of the meeting is to complete any final business needed to recommend projects to the Humboldt-Toiyabe Forest Supervisor. Lacking any final business, this meeting will be cancelled.

DATES: The meeting will be held on September 25, 2012 at 10 a.m. Pacific.

ADDRESSES: The meeting will be held at the Humboldt County Court House Room 201, 50 West 5th Street,Winnemucca, Nevada. The meeting can also be attended by teleconference by dialing 888-858-2144 access code 2567555. Written comments should be sent to USDA Forest Service, 1200 E Winnemucca Blvd., Winnemucca, NV 89445. Comments may also be sent via email to jlulrich@fs.fed.us, or via facsimile to775-625-1200.

Written comments may be submitted as described under Supplementary Information. All comments, including names and addresses when provided, are placed in the record and are available for public inspection and copying. The public may inspect comments received at http://fs.usda.gov/goto/htnf/rac.

FOR FURTHER INFORMATION CONTACT: Jeff Ulrich, RAC Designated Federal Official, Santa Rosa Ranger District Humboldt-Toiyabe National Forest, 775-352-1215. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: Complete any final business, as yet unknown, needed to recommend projects to the Humboldt-Toiyabe Forest Supervisor. Lacking any final business, this meeting will be cancelled. Anyone who would like to bring related matters to the attention of the committee may file written statements with the Designated Federal Official before the meeting. A summary of the meeting will be posted at http://fs.usda.gov/goto/htnf/rac within 21 days of the meeting.

Meeting Accommodations: If you require sign language interpreting, assistive listening devices or other reasonable accommodation please request this in advance of the meeting by contacting the person listed in the section titled For Further Information Contact. All reasonable accommodation requests are managed on a case by case basis

Dated: September 6, 2012.
Stephanie A. Phillips,
Deputy Forest Supervisor, Humboldt-Toiyabe National Forest.

[FR Doc. 2012-22415 Filed 9-11-12; 8:45 am]

BILLING CODE 3410-11-P